DEPARTMENT OF ENERGY

Federal Energy Regulatory Commission

[Docket No. RM07-16-000]

Filing Via the Internet; Notice of Discontinuation of Text Version of Commission Issuances

May 28, 2008.

Pursuant to Commission Order No. 703, issued November 15, 2007,¹ and effective December 24, 2007, the Commission will discontinue creating Text files (.TXT file extension) for new Commission issuances.² The Commission proposed in this proceeding to eliminate the Text versions of issuances and received no comments.

¹ Filing Via the Internet, Order No. 703, 72 FR 65,659 (November 23, 2007), FERC Stats. & Regs. ¶ 61,171¶ 31,259 (2007) (Order No. 703).

² The Text versions of previous Commission issuances will remain available through the eLibrary system.

The Commission will continue to make issuances available in the native format—primarily Microsoft Word for issuances—and will continue to create a PDF (Portable Document Format) version.³

³ The PDF version is created from the native file on a ‘best efforts' basis for Commission issuances and submittals to the agency.

The Commission began creating Text versions of its issuances nearly 20 years ago when the public accessed documents through either paper copies or an electronic bulletin board using a dial-up connection. Text files made agency issuances accessible to the public in an open format without the need to purchase proprietary software. With today's Internet access and the availability of viewers for various file formats, the utility of the Text version is greatly diminished. In addition, other agencies generally do not create Text versions of issuances.

This implementation action is effective immediately.

Kimberly D. Bose,
Secretary.

[FR Doc. E8-12365 Filed 6-3-08; 8:45 am]

BILLING CODE 6717-01-P